DEPARTMENT OF AGRICULTURE

Rural Housing Service

Notice of Funds Availability (NOFA) for Section 533 Housing Preservation Grants for Fiscal Year (FY) 2003

AGENCY: Rural Housing Service (RHS), USDA.

ACTION: Notice.

SUMMARY: This NOFA announces the availability of funds for section 533 Housing Preservation Grant (HPG) Program. By prior notice in the Federal Register, the Agency announced a deadline of March 27, 2003, 5 p.m., local time for each Rural Development State Office, for submitting applications for Section 533 Housing Preservation Grant Program. The “Notice of Timeframe for the section 533 Housing Preservation Grants for Fiscal Year 2003” was published in the Federal Register on December 27, 2002 (67 FR 79036). This was done prior to passage of a final appropriations act to allow sufficient time for applicants to complete an application and for the Agency to select and process selected applications within the current fiscal year. Detailed information regarding the application and selection process, as well as a listing of the Rural Development State Offices, may be found in the December 27, 2002, Notice.

FOR FURTHER INFORMATION CONTACT: For general information, applicants may contact Mary Fox, Senior Loan Officer, Multi-Family Housing Processing Division, Rural Housing Service, United States Department of Agriculture, Stop 0781, 1400 Independence Avenue, SW., Washington, DC 20250, telephone (202) 720-1624 (voice) (this is not a toll free number) or (800) 877-8339 (TDD—Federal Information Relay Service).

SUPPLEMENTARY INFORMATION:

Programs Affected

This program is listed in the Catalog of Federal Domestic Assistance under Number 10.433, Rural Housing Preservation Grants. This program is subject to the provisions of Executive Order 12372 which requires intergovernmental consultation with State and local officials (7 CFR part 3015, subpart V). Applicants are referred to 7 CFR 1944.674 and 1944.676(f), (g), and (h) for specific guidance on these requirements relative to the HPG program.

Discussion of Notice

I. Authority and Distribution Methodology

A. Authority

The HPG program is a grant program which provides qualified public agencies, private nonprofit organizations, and other eligible entities grant funds to assist very low- and low-income homeowners to repair and rehabilitate their homes in rural areas, and to assist rental property owners and cooperative housing complexes to repair and rehabilitate their units if they agree to make such units available to low- and very low-income persons. This action is taken to comply with Agency regulations found in 7 CFR part 1944, subpart N, which requires the Agency to announce the opening and closing dates for receipt of preapplications for HPG funds from eligible applicants. The intended effect of this Notice is to provide eligible organizations notice of these dates.

B. Distribution Methodology

The funding instrument for the HPG program will be a grant agreement. The term of the grant can vary from 1 to 2 years, depending on available funds and demand. No maximum or minimum grant levels have been established at the National level. You should contact the State office to determine the allocation and the State maximum grant level, if any. For FY 2003, $9,935,000 is available for the Housing Preservation Grant Program. A set aside of $596,100 has been established for grants located in Empowerment Zones, Enterprise Communities, and REAP Zones, $997,400 has been set aside for the Administrator's reserve and $8,341,500 has been distributed under a formula allocation to States pursuant to 7 CFR part 1940, subpart L, “Methodology and Formulas for Allocation of Loan and Grant Program Funds.” Decisions on funding will be based on preapplications.

Dated: May 12, 2003.
Arthur A. Garcia,
Administrator, Rural Housing Service.

[FR Doc. 03-12247 Filed 5-15-03; 8:45 am]

BILLING CODE 3410-XV-P